DEPARTMENT OF THE INTERIOR

Fish and Wildlife Service

[FWS-R5-R-2010-N267; BAC-4311-K9-S3]

Parker River and Thacher Island National Wildlife Refuges, Essex County, MA; Comprehensive Conservation Plan and Environmental Assessment

AGENCY: Fish and Wildlife Service, Interior.

ACTION: Notice of intent; announcement of public meetings; request for comments.

SUMMARY: We, the U.S. Fish and Wildlife Service (Service), intend to prepare a comprehensive conservation plan (CCP) and environmental assessment (EA) for Parker River and Thacher Island National Wildlife Refuges (NWR). We provide this notice in compliance with our CCP policy to advise other Federal and State agencies, Tribes, and the public of our intentions, and to obtain suggestions and information on the scope of issues to consider in the planning process. We are also announcing public meetings and requesting public comments.

DATES: To ensure consideration, please send your written comments by May 20, 2011. We will hold public meetings and other scheduled events throughout the CCP planning process. We will announce opportunities for public input in local news media throughout the CCP process.

ADDRESSES: Send your comments or requests for more information by any of the following methods.

E-mail: northeastplanning@fws.gov. Include “Parker River CCP” in the subject line of the message.

Fax: Attention: Graham Taylor, at 978-465-2807.

U.S. Mail: Parker River NWR, 6 Plum Island Turnpike, Newburyport, MA 01950.

In-Person Drop-off: You may drop off comments during regular business hours or call for an appointment (978-465-5753) at Parker River NWR, 6 Plum Island Turnpike, Newburyport, MA 01950.

FOR FURTHER INFORMATION CONTACT: Carl Melberg, Planning Team Leader, at 978-443-4661, or carl_melberg@fws.gov.

SUPPLEMENTARY INFORMATION:

Introduction

With this notice, we initiate our process for developing a CCP for Parker River and Thacher Island NWRs, in Essex County, Massachusetts. This notice complies with our CCP policy to: (1) Advise other Federal and State agencies, Tribes, and the public of our intention to conduct detailed planning on these refuges, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for Tribal, State, and local governments; agencies; organizations; and the public. At this time, we encourage input in the form of issues, concerns, ideas, and suggestions for the future management of Parker River and Thacher Island NWRs.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Parker River and Thacher Island National Wildlife Refuges

Parker River NWR was established in 1942 to provide feeding, resting, and nesting habitat for migratory birds. The refuge occupies 4,653 acres on Plum Island, a 9-mile-long barrier island off the northeastern coast of Massachusetts, and is a vital stopover site along the Atlantic Flyway for waterfowl, shorebirds, and songbirds. The primary purpose of Parker River NWR is to preserve and manage habitat for a diversity of species, particularly migratory birds and wintering American black ducks. A focus of management is to serve as a land management, research, and demonstration area for salt marsh systems. Adjacent to the refuge, and at the extreme southern tip of Plum Island, is the 77-acre Sandy Point State Reservation. This park's only overland access is through the refuge.

Parker River NWR staff also administer Thacher Island NWR, an unstaffed satellite refuge off the coast of Rockport, Massachusetts. Thacher Island NWR encompasses the northern 22 acres of the 50-acre island, and was established in 1972 to provide feeding, resting, and nesting habitat for migratory birds. The refuge is managed to protect migratory birds, endangered species and other wildlife and their habitats.

Scoping: Preliminary Issues, Concerns, and Opportunities

We have identified preliminary issues, concerns, and opportunities that we may address in the CCP. We have briefly summarized these issues below. During public scoping, we may identify additional issues.

Concerns about the management of several key habitats on the refuges include the protection of the beach/dune for Federally endangered piping plovers and roseate terns, and marsh habitat for saltmarsh sparrows, bitterns and rails, all of which are species of conservation concern. Manmade impoundments provide freshwater wetlands for priority bird species, but these modified habitats are threatened by sea level rise. The feasibility of their long-term maintenance, in comparison to restoring native habitats, will be evaluated. A recent sea level rise study predicts that Plum Island's natural and cultural resources are imminently threatened. Management of native grasslands and maritime shrub, which currently require prescribed fire and mechanical treatments for restoration and maintenance, will also be evaluated. Water quantity and quality issues on the refuge and in the surrounding watershed are additional habitat issues.

Concerns about the management of the barrier island system as a unit involves issues of public access, visitor use, and vehicle “carrying capacity” in relation to the adjacent State reservation's differing management and enforcement of recreation. Parking lot and seasonal beach closures to protect key refuge and adjacent State reservation resources result in traffic and visitor use challenges. Also complicating management is the ability of the refuge to provide quality compatible use, as general beach use often precludes wildlife-dependent priority public uses.

Many partnerships are in place and other key opportunities exist with the Massachusetts Department of Conservation and Recreation, as well as with refuge neighbor Massachusetts Audubon Society, which provides programming and tours on the refuge. These relationships, however, also raise issues related to refuge visibility and visitor and community awareness of refuge ownership and management.

Public Meetings

We will give the public an opportunity to provide input throughout the planning process at public meetings and other scheduled events. You can obtain schedules and meeting information from the planning team leader or project leader (see ADDRESSES). You may also send comments anytime during the planning process by mail, e-mail, or fax (see ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: April 8, 2011.
Wendi Weber,
Acting Regional Director, U.S. Fish and Wildlife Service, Hadley, MA 01035.

[FR Doc. 2011-9541 Filed 4-19-11; 8:45 am]

BILLING CODE 4310-55-P